FEDERAL COMMUNICATIONS COMMISSION

47 CFR Part 20

[WT Docket No. 07-250; FCC 08-68]

Hearing Aid-Compatible Mobile Handsets, Petition of American National Standards Institute Accredited Standards Committee C63 (EMC) ANSI ASC C63™

AGENCY: Federal Communications Commission.

ACTION: Request for comments.

SUMMARY: The Federal Communications Commission (Commission) invites additional submissions regarding the treatment under its hearing aid compatibility rules of multi-mode and multi-band handsets and regarding the application of the de minimis exception to those rules.

DATES: The Commission requests comments on or before August 28, 2008.

ADDRESSES: You may submit ex parte submissions, identified by WT Docket No. 07-250, by any of the following methods:

• Federal eRulemaking Portal: http://www.regulations.gov. Follow the instructions for submitting comments.

• Federal Communications Commission's Web Site: http://www.fcc.gov/cgb/ecfs/. Follow the instructions for submitting comments.

• E-mail: ecfs@fcc.gov, and include the following words in the body of the message, “get form.” A sample form and directions will be sent in response.

• Mail: Federal Communications Commission, 445 12th Street, SW., Washington, DC 20554.

• Hand Delivery/Courier: 236 Massachusetts Avenue, NE., Suite 110, Washington, DC 20002.

• Accessible Formats: Contact the FCC to request reasonable accommodations (accessible format documents, sign language interpreters, CART, etc.) for filing comments either by e-mail: FCC504@fcc.gov or phone: 202-418-0530 or TTY: 202-418-0432.

Instructions: All submissions received must include the agency name and docket number for this rulemaking. All submissions received will be posted without change to http://www.fcc.gov/cgb/ecfs including any personal information provided.

FOR FURTHER INFORMATION CONTACT: Peter Trachtenberg, Spectrum & Competition Policy Division, Wireless Telecommunications Bureau, Federal Communications Commission, 445 12th Street, SW., Portals I, Room 6119, Washington, DC 20554.

SUPPLEMENTARY INFORMATION: This is a summary of open issues in the Commission's First Report & Order (R&O) in WT Docket No. 07-250 released February 28, 2008. The complete text of the Commission's R&O is available for public inspection and copying from 8:00 a.m. to 4:30 p.m. Monday through Thursday or from 8 a.m. to 11:30 a.m. on Friday at the FCC Reference Information Center, Portals II, 445 12th Street, SW., Room CY-A257, Washington, DC 20554. [The R&O may also be purchased from the Commission's duplicating contractor, Best Copy and Printing, Inc. (BCPI), Portals II, 445 12th Street, SW., Room CY-B402, Washington, DC 20554, telephone 202-488-5300, facsimile 202-488-5563, or you may contact BCPI at its Web site: http://www.BCPIWEB.com. When ordering documents from BCPI please provide the appropriate FCC document number, FCC 08-68. The R&O is also available on the Internet at the Commission's Web site through its Electronic Document Management System (EDOCS): http://hraunfoss.fcc.gov/edocs_public/SilverStream/Pages/edocs.html.]

This is a summary of the two new issues raised in the R&O that the public can comment on through the ex parte process in WT Docket No. 07-250:

Multi-mode and multi-band handsets. In the R&O, the Commission clarifies that, to be counted as hearing aid-compatible, a handset model must meet compatibility standards for each air interface and frequency band it uses so long as standards exist for each of those bands and air interfaces. Except for an interim ruling with respect to handsets that incorporate Wi-Fi capabilities, the Commission does not resolve whether, or to what extent, multi-band and multi-mode handsets should be counted as hearing aid-compatible if they operate in part over frequency bands or air interfaces for which technical standards have not yet been established. The record contains arguments both in favor of and against treating such handsets as hearing aid-compatible. Moreover, according to industry representatives, no such handsets currently exist, with the exception of devices incorporating Wi-Fi capability. The Commission accepts the proposal endorsed by both industry and consumer representatives to leave the record open so that they may develop a consensus plan on this issue in the near term. The Commission looks forward to receiving from the parties to the consensus discussions general principles within three months of the release of the R&O and a detailed proposal within six months, and the Commission also invites the views of other parties. The Commission anticipates acting on a final order shortly after receiving the detailed consensus proposal. The Commission's decision to take additional time to resolve this issue turns in part on the current unavailability of such handsets. The Commission therefore expects handset manufacturers to keep it informed regarding the status of developments of such handsets, and asks the parties to the consensus discussions to include that information as part of their filings in three and six months. If such handsets are made available in the interim, the Commission will act expeditiously to address the hearing aid compatibility status of those handsets.

When the Commission subsequently addresses the application of hearing aid compatibility requirements to Wi-Fi operations, it will consider an appropriate transition regime to bring any requirements into effect. In view of the fact that Wi-Fi-capable handsets are currently available, the Commission invites comments on whether a period of time should be given before any requirements to meet hearing aid compatibility standards for handsets that incorporate Wi-Fi capability become effective, and if so what that time period should be. It has been argued by some commenters that due to the lower power of the Wi-Fi operations, these operations are unlikely to cause interference to hearing aids. However, there has been no specific showing towards this. The Commission invites comments in this area in order to help it consider the application of hearing aid compatibility requirements to Wi-Fi operations and consider a transition regime to bring such requirements into effect.

De minimis rule. Section 20.19 provides a de minimis exception to hearing aid compatibility obligations for those manufacturers and mobile service providers that only offer a small number of handset models. In the R&O, the Commission retains the existing de minimis rule and clarifies that it applies on a per-air interface basis rather than across a manufacturer's or service provider's entire product line.

Two commenters proposed that the exception be modified so that it does not apply on a permanent basis to large businesses that produce only one or two handsets with mass appeal, such as Apple's iPhone. The Commission does not adopt this limitation at this time, but leaves the record open for further comments. The Commission recognizes the concern of Hearing Loss Association of America and Telecommunications for the Deaf and Hard of Hearing, Inc. (HLAA/TDI) and Gallaudet University Technology Access program and Rehabilitation Engineering Research Center on Telecommunications Access (Gallaudet/RERC) that if a manufacturer produces only one or two models of a popular handset that is not hearing aid-compatible, consumers with hearing loss may be denied access to attractive features of that handset indefinitely. At the same time, as the Commission has stated previously, the exception was not adopted solely for the benefit of small businesses, but for businesses of any size that sell only a small number of digital wireless handsets in the United States. The primary concern of the Commission is that the rule not be limited in a manner that would compromise its effectiveness in promoting innovation and competition. The Commission also takes note of the fact that large manufacturers with highly successful initial devices may not continue indefinitely to produce only two or fewer handset models, but instead may expand their product offerings in response to consumer demand for new and different features, thereby bringing themselves under the hearing aid compatibility rules and benefiting consumers both with and without hearing loss. It is also unclear exactly how the changes proposed by Gallaudet/RERC and HLAA/TDI would operate in practice. The Commission invites comments on how “large business,” “handsome profits,” or “mass appeal” would be defined. To the extent the rule's application would depend on the volume and profitability of sales during the first year, the Commission asks whether manufacturers have sufficient ability to anticipate the obligations to which they would be subject and plan accordingly. The commenting parties to these questions are requested to address the details and effects of any limitation on the de minimis exception that they may propose, and the need for the limitation to protect consumers' access to phones with advanced or desirable technologies and features.

Federal Communications Commission.
Marlene H. Dortch,
Secretary.

[FR Doc. E8-13219 Filed 6-11-08; 8:45 am]

BILLING CODE 6712-01-P